COUNCIL ON ENVIRONMENTAL QUALITY

Energy Task Force

AGENCY: Council on Environmental Quality.

ACTION: Notice and request for comments.

SUMMARY: On May 18, 2001, the President signed Executive Order 13212 recognizing the importance of environmentally sound production and transmission of energy to all American people. The Order established a federal interagency task force (“Task Force”), chaired by the Chairman of the Council on Environmental Quality (“CEQ”), to work with and monitor federal agencies' efforts to expedite their review of permits or take other actions necessary to accelerate the completion of energy-related projects, while maintaining safety, public health, and environmental protections. This task force is also charged with helping agencies create mechanisms to coordinate Federal, State, tribal and local permitting in geographic areas where increased permitting activity is expected. CEQ announces the formation of this Task Force and invites comments on the proposed nature and scope of Task Force activities, specific suggestions, and examples of permitting or other decision making processes which should be improved or streamlined.

DATES: Written comments should be submitted on or before October 1, 2001.

ADDRESSES: Direct electronic written comments to Chair, Council on Environmental Quality, through the CEQ web site at www.whitehouse.gov/ceq. Written comments may also be submitted to the Chair, Council on Environmental Quality, Executive Office of the President, 17th and G Streets, NW, Washington, DC 20503. Attention: Task Force. Written comments may also be faxed to the Task Force at (202) 456-6546.

FOR FURTHER INFORMATION CONTACT: Requests for copies the “National Energy Policy Report of the National Energy Policy Development Group” may be directed to CEQ at the above address. The report is available on the White House web site (http://www.whitehouse.gov/energy/National-Energy-Policy.pdf) and on the Department of Energy web site (http://www.energy.gov/HQPress/releases01/maypr/energy_policy.htm). Copies of the report (ISBN 0-16-050814-2) can also be purchased from the Superintendent of Documents, U.S. Government Printing Office, by calling (202) 512-1800 or mailing your request to U.S. GPO, Mail Stop SSOP, Washington, DC 20402-0001.

SUPPLEMENTARY INFORMATION:

I. Abstract

A. The Task Force will work through an operational approach that addresses impediments to federal agencies' completion of decisions about energy-related projects in a way that will increase the production, transmission, and conservation of energy. The Executive Order requires federal agencies to expedite their review of permits or take other actions as necessary to accelerate the completion of energy-related projects, while maintaining safety, public health, and environmental protections. The Executive Order creates a federal interagency task force, chaired by CEQ, to work with and monitor federal agencies in expediting their review of permits, and to help agencies create mechanisms to coordinate Federal, State, tribal and local permitting in geographic areas where increased permitting activity is expected.

B. Executive Order No. 13212, signed by the President in Washington, DC, on May 18, 2001, Actions to Expedite Energy-Related Projects, reads:

By the authority vested in me as President by the Constitution and the laws of the United States of America, and in order to take additional steps to expedite the increased supply and availability of energy to our Nation, it is hereby ordered as follows:

Section 1. Policy

The increased production and transmission of energy in a safe and environmentally sound manner is essential to the well-being of the American people. In general, it is the policy of this Administration that executive departments and agencies (agencies) shall take appropriate actions, to the extent consistent with applicable law, to expedite projects that will increase the production, transmission, or conservation of energy.

Section 2. Actions To Expedite Energy-Related Projects

For energy-related projects, agencies shall expedite their review of permits or take other actions as necessary to accelerate the completion of such projects, while maintaining safety, public health, and environmental protections. The agencies shall take such actions to the extent permitted by law and regulation, and where appropriate.

Section 3. Interagency Task Force

There is established an interagency task force (Task Force) to monitor and assist the agencies in their efforts to expedite their review of permits or similar actions, as necessary, to accelerate the completion of energy-related projects, increase energy production and conservation, and improve transmission of energy. The Task Force also shall monitor and assist agencies in setting up appropriate mechanisms to coordinate Federal, State, tribal, and local permitting in geographic areas where increased permitting activity is expected. The Task Force shall be composed of representatives from the Departments of State, the Treasury, Defense, Agriculture, Housing and Urban Development, Justice, Commerce, Transportation, the Interior, Labor, Education, Health and Human Services, Energy, Veterans Affairs, the Environmental Protection Agency, Central Intelligence Agency, General Services Administration, Office of Management and Budget, Council of Economic Advisers, Domestic Policy Council, National Economic Council, and such other representatives as may be determined by the Chairman of the Council on Environmental Quality. The Task Force shall be chaired by the Chairman of the Council on Environmental Quality and housed at the Department of Energy for administrative purposes.

Section 4. Judicial Review

Nothing in this order shall affect any otherwise available judicial review of agency action. This order is intended only to improve the internal management of the Federal Government and does not create any right or benefit, substantive or procedural, enforceable at law or equity by a party against the United States, its agencies or instrumentalities, its officers or employees, or any other person.

C. The Task Force will work through an operational approach that facilitates interagency coordination and addresses impediments to federal agencies' completion of decisions about energy-related projects by functional categories (e.g., pipelines, conservation, electricity transmission). The Task Force will help manage the federal agency decision-making process for setting priorities, scheduling activities in accordance with those priorities, identifying staffing and resource needs, facilitating issue resolution, and measuring the achievements of federal agencies in implementing Executive Order 13212. The Task Force will address coordination issues regionally, reaching out to states, local communities, tribes, businesses, and non-governmental organizations. The Task Force will use the experience gained in streamlining decisions about energy-related projects and resolving coordination issues to identify opportunities for systemic improvement and, where appropriate, regulatory or legislative change.

CEQ is currently working with the relevant federal agencies to obtain background information and designate agency Task Force contacts. CEQ is drafting a charter for this Task Force that will be available on the CEQ web site, and intends to use the CEQ Management Fund to create a working group of approximately eight expert agency representatives responsible for the day-to-day management and coordination of Task Force activities. CEQ intends to organize the Task Force work and staff according to the following functional categories: pipelines; refineries; electricity generation; nuclear; electricity transmission; hydropower; renewable sources; and conservation. The Task Force will identify regional federal personnel responsible for prioritizing and implementing expedited permitting, designate federal lands for each region, and establish cross-agency regional teams.

D. The Task Force expects to receive information from many interested persons (e.g., public interest groups, government, academia, industry) about particular energy projects and opportunities to improve agency decisionmaking. Of immediate need, CEQ seeks basic information about major pending projects or major projects under development that may be relevant to the Task Force efforts to streamline energy permitting decisions.

II. Request for Information and Comments

Please submit basic information about major energy projects in the following format:

1. Name of the project

2. Entity proposing the project

3. Category of the project—Pipeline, Electricity Transmission, Electricity Generation, Nuclear, Hydropower, Refinery, Renewable, Conservation, or Other

4. Brief description of the project

5. Agency or agencies that must be consulted and agencies from which approval is needed. Please list by the following categories: Federal, State, Tribal, Local, Other

In order to further the work of this Task Force, CEQ believes that it would be beneficial to have public input on federal agency activities to implement Executive Order 13212. Such input may include recommendations for improving agency activities, consistent with the purposes and policies of the National Environmental Policy Act, 42 U.S.C. 4321 et seq., (1) To accelerate the completion of energy-related projects; (2) to increase energy production and conservation; (3) to improve transmission of energy; and (4) to coordinate permitting in geographic areas where increased permitting activity is expected.

Public comments are requested by October 1, 2001.

Dated: August 10, 2001.
James L. Connaughton,
Chairman, Council on Environmental Quality.

[FR Doc. 01-20914 Filed 8-17-01; 8:45 am]

BILLING CODE 3125-01-M